DEPARTMENT OF ENERGY

Federal Energy Regulatory Commission

Combined Notice of Filings #1

Take notice that the Commission received the following electric corporate filings:

Docket Numbers: EC16-132-000.

Applicants: West Deptford Energy, LLC.

Description: Application for Approval Under Section 203 of the Federal Power Act and Request for Expedited Action of West Deptford Energy, LLC.

Filed Date: 6/16/16.

Accession Number: 20160616-5163.

Comments Due: 5 p.m. ET 7/7/16.

Take notice that the Commission received the following electric rate filings:

Docket Numbers: ER16-1946-000.

Applicants: Atlantic Energy LLC.

Description: Baseline eTariff Filing: Atlantic Energy Market Based Rate Tariff to be effective 6/16/2016.

Filed Date: 6/16/16.

Accession Number: 20160616-5150.

Comments Due: 5 p.m. ET 7/7/16.

Docket Numbers: ER16-1947-000.

Applicants: Atlantic Energy MD, LLC.

Description: Baseline eTariff Filing: Atlantic Energy MD Market Based Rate Tariff to be effective 6/16/2016.

Filed Date: 6/16/16.

Accession Number: 20160616-5151.

Comments Due: 5 p.m. ET 7/7/16.

Docket Numbers: ER16-1948-000.

Applicants: Atlantic Energy MA LLC.

Description: Baseline eTariff Filing: Atlantic Energy MA Market Based Rate Tariff to be effective 6/16/2016.

Filed Date: 6/16/16.

Accession Number: 20160616-5156.

Comments Due: 5 p.m. ET 7/7/16.

Docket Numbers: ER16-1949-000.

Applicants: West Deptford Energy, LLC.

Description: Request for Waiver and Request for Expedited Consideration of West Deptford Energy, LLC.

Filed Date: 6/16/16.

Accession Number: 20160616-5170.

Comments Due: 5 p.m. ET 7/7/16.

Docket Numbers: ER16-1950-000.

Applicants: PJM Interconnection, L.L.C.

Description: § 205(d) Rate Filing: Amendment to WMPA SA No. 3234, Queue No. W4-060 per Assignment to CEP to be effective 9/17/2014.

Filed Date: 6/17/16.

Accession Number: 20160617-5020.

Comments Due: 5 p.m. ET 7/8/16.

Docket Numbers: ER16-1951-000.

Applicants: Southwest Power Pool, Inc.

Description: § 205(d) Rate Filing: 2646R2 Kansas Municipal Energy Agency NITSA NOA to be effective 6/1/2016.

Filed Date: 6/17/16.

Accession Number: 20160617-5030.

Comments Due: 5 p.m. ET 7/8/16.

Take notice that the Commission received the following electric securities filings:

Docket Numbers: ES16-38-000.

Applicants: AEP Texas Central Company.

Description: Application Pursuant to Section 204 of the Federal Power Act of AEP Texas Central Company to issue securities.

Filed Date: 6/16/16.

Accession Number: 20160616-5162.

Comments Due: 5 p.m. ET 7/7/16.

Docket Numbers: ES16-39-000.

Applicants: AEP Texas North Company.

Description: Application Under Section 204 of the Federal Power Act of AEP Texas North Company to issue securities.

Filed Date: 6/16/16.

Accession Number: 20160616-5165.

Comments Due: 5 p.m. ET 7/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2016.
Kimberly D. Bose,
Secretary.

[FR Doc. 2016-14862 Filed 6-22-16; 8:45 am]

BILLING CODE 6717-01-P